DEPARTMENT OF HEALTH AND HUMAN SERVICES

Centers for Medicare and Medicaid Services

[Document Identifier: CMS-10024, CMS-2384, CMS-R-64]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Medicare Health Survey (MHS) and Data Collection for Administering the PACE Health Survey to Beneficiaries Enrolled in PACE and the Dual Eligible Demonstrations; Form No.: CMS-10024 (OMB# 0938-0844); Use: The Centers for Medicare & Medicaid Services has developed a survey, the PHS, that is similar to the Health Outcomes Survey (HOS). This survey was approved for PACE and the Wisconsin Partnership Program (WPP) on March 14, 2003. OMB also approved the use of the PHS to beneficiaries enrolled in Minnesota Senior Health Options and Minnesota Disability Health Options (MSHO/MnDHO) on June 3, 2003 for a 6-month period. This PRA submission combines OMB approval for PACE, WPP 0938-0844 with OMB approval for MSHO/MnDHO 0938-0899 and requests to administer the PHS to beneficiaries enrolled in MassHealth SCO as well as administer the PHS in year 2005. The main purpose of the PHS is to collect health status information that may be used to adjust Medicare payment to MSHO/MnDHO health plan organizations. It has been successfully pilot-tested to assess response rates and accuracy of responses under different distribution approaches. The pilot test enabled CMS to select an approach whereby PACE and Dual Eligible Demonstration enrollees will be sent surveys to fill out and can request assistance from family or professionals; Frequency: Annually; Affected Public: Individuals or Households and Not-for-profit institutions; Number of Respondents: 15,859; Total Annual Responses: 10,785; Total Annual Hours: 1,798.

2. Type of Information Collection Request: Revision of a currently approved collection; Title of Information Collection: Third Party Premium Billing Request and Supporting Regulations in 42 CFR 408.6 and 408.202; Form No.: CMS-2384; Use: The Third Party Premium Billing Request is used as an authorization to designate that a family member or other interested party receive the Medicare Premium Bill and pay it on behalf of a Medicare beneficiary. Section 408.202 requires a State to get written authorization from Medicare beneficiaries for CMS to send billing notices directly to the State or local government agency and to release any information required under the SMI premium surcharge agreement; Frequency: On occasion; Affected Public: Individuals or households; Number of Respondents: 17,350; Total Annual Hours: 6,446.

3. Type of Information Collection Request: Extension of a currently approved collection; Title of Information Collection: Indirect Medical Education (IME) and Supporting Regulations in 42 CFR 412.105; Form No.: HCFA-R-64 (OMB# 0938-0456); Use: This collection of information on interns and residents (IR) is needed to properly calculate Medicare program payments to hospitals that incur indirect costs for medical education. The agency's Intern and Resident Information System uses the information for producing automated reports of duplicate full-time equivalent IRs for IME. The reports provide contractors with information to ensure that hospitals are properly reimbursed for IME, and help eliminate duplicate reporting of IR counts which inflate payments. The collection of this information affects 1,350 hospitals which participate in approved medical education programs; Frequency: Annually; Affected Public: Not-for-profit institutions, and Business or other for-profit; Number of Respondents: 1,350; Total Annual Responses: 1,350; Total Annual Hours: 2,700. To obtain copies of the supporting statement and any related forms for the proposed paperwork collections referenced above, access CMS Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: September 25, 2003.
Julie Brown,
CMS Reports Clearance Officer, Office of Strategic Operations and Strategic Affairs, Division of Regulations Development and Issuances.

[FR Doc. 03-25063 Filed 10-2-03; 8:45 am]

BILLING CODE 4120-03-P